NUCLEAR REGULATORY COMMISSION

[Docket Nos. 52-040-COL and 52-041-COL; ASLBP No. 10-903-02-COL-BD01]

Florida Power and Light Company; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board (Board) is being established to preside over the following proceeding:

Florida Power & Light Company (Turkey Point Units 6 and 7)

This proceeding concerns petitions to intervene submitted (1) by the Village of Pinecrest, Florida, (2) by Citizens for Safe Energy, Inc., and (3) jointly by Mark Oncavage, Dan Kipnis, Southern Alliance for Clean Energy, and National Parks Conservation Association. These petitions were submitted in response to a June 18, 2010 Notice of Hearing and Opportunity to Petition for Leave to Intervene (75 FR 34,777). Petitioners challenge the application filed by Florida Power & Light Company pursuant to Subpart C of 10 CFR Part 52 for a combined license for Turkey Point Units 6 and 7, to be located in Homestead, Florida.

The Board is comprised of the following administrative judges:

E. Roy Hawkens, Chair, Atomic Safety and Licensing Board Panel, U.S. Nuclear Regulatory Commission, Washington, DC 20555-0001.

Dr. Michael F. Kennedy, Atomic Safety and Licensing Board Panel, U.S. Nuclear Regulatory Commission, Washington, DC 20555-0001.

Dr. William C. Burnett, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 31st day of August 2010.
E. Roy Hawkens,
Chief Administrative Judge, Atomic Safety and Licensing Board Panel.

[FR Doc. 2010-22178 Filed 9-3-10; 8:45 am]

BILLING CODE 7590-01-P